DEPARTMENT OF THE INTERIOR

Bureau of Land Management

[AZA 7033 and AZAR 034182]

Public Land Order No. 7528; Revocation of Public Land Order Nos. 3684 and 5368; Arizona

AGENCY: Bureau of Land Management, Interior.

ACTION: Public Land Order.

SUMMARY: This order revokes Public Land Order Nos. 3684 and 5368 in their entirety as to 1,059.61 acres of National Forest System lands withdrawn for several water sources within the Superstition Wilderness Area, the Tortilla Flat Campground, and the Weaver's Needle Recreation Area. All of the lands are located within the Superstition Wilderness Area, therefore the withdrawals are no longer needed.

EFFECTIVE DATE: July 26, 2002.

FOR FURTHER INFORMATION CONTACT: Cliff Yardley, BLM Arizona State Office, 222 North Central Avenue, Phoenix, Arizona 85004-2203, 602-417-9437.

Order

By virtue of the authority vested in the Secretary of the Interior by Section 204 of the Federal Land Policy and Management Act of 1976, 43 U.S.C. 1714 (1994), it is ordered as follows:

Public Land Order Nos. 3684 (30 FR 7821) and 5368 (38 FR 20329), which withdrew National Forest System lands for several water sources within the Superstition Wilderness Area, the Tortilla Flat Campground, and the Weaver's Needle Recreation Area, are hereby revoked in their entirety.

SUPPLEMENTARY INFORMATION: The lands are located within the Superstition Wilderness Area, Tonto National Forest. The lands still need protection from mining but since they are located within the Wilderness Area, which closes the lands to mining, the withdrawals are no longer needed.

Dated: July 2, 2002.
Rebecca W. Watson,
Assistant Secretary—Land and Minerals Management.

[FR Doc. 02-18892 Filed 7-25-02; 8:45 am]

BILLING CODE 3410-11-P